DEPARTMENT OF LABOR

Employment and Training Administration

[TA-W-62,583; TA-W-62,583A]

PeopLoungers, Inc., Nettleton, MS, and PeopLoungers, Inc., Mantachie, MS; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on April 2, 2008, applicable to workers of PeopLoungers, Inc., Nettleton, Mississippi. The notice was published in the Federal Register on April 17, 2008 (73 FR 20954).

At the request of a company official, the Department reviewed the certification for workers of the subject firm. The workers are engaged in the production of furniture.

New information provided by the company official shows that after the worker group was certified eligible to apply for adjustment assistance, the subject firm relocated remaining workers and production from Nettleton, Mississippi to Mantachie, Mississippi.

Based on this finding, the Department is amending the certification to include workers separated from the Mantachie, Mississippi location of PeopLoungers, Inc.

The amended notice applicable to TA-W-62,583 is hereby issued as follows:

``All workers of Peoploungers, Inc., Nettleton, Mississippi (TA-W-62,583) and PeopLoungers, Inc., Mantachie, Mississippi who became totally or partially separated from employment on or after December 18, 2006, through April 4, 2010, are eligible to apply for adjustment assistance under Section 223 of the Trade Act of 1974, and are also eligible to apply for alternative trade adjustment assistance under Section 246 of the Trade Act of 1974.''

Signed in Washington, DC, this 23rd day of September 2008.
Elliott S. Kushner,
Certifying Officer, Division of Trade Adjustment Assistance.

[FR Doc. E8-23298 Filed 10-2-08; 8:45 am]

BILLING CODE 4510-FN-P